ENVIRONMENTAL PROTECTION AGENCY

[FRL-9161-3]

Science Advisory Board Staff Office; Notification of Closed Meetings of the Science Advisory Board's Scientific and Technological Achievement Awards Committee

AGENCY: Environmental Protection Agency (EPA).

ACTION: Notice.

SUMMARY: The U.S. Environmental Protection Agency's (EPA), Science Advisory Board (SAB) Staff Office announces a meeting and teleconference of the SAB's Scientific and Technological Achievement Awards (STAA) Committee to develop draft recommendations regarding the recipients of the Agency's 2010 Scientific and Technological Achievement Awards for consideration by the SAB. The meetings will be closed to the public.

DATES: The meeting dates are Monday and Tuesday, June 28 and 29, 2010, from 8 a.m. to 5 p.m., and Wednesday, June 30, 2010, from 8 a.m. to 1 p.m .e.t. The teleconference date is Tuesday, July 27, 2010, from 1 p.m. to 5 p.m. e.t.

ADDRESSES: The closed meeting will be held at the Park Hyatt Washington Hotel, 1201 24th Street, NW., Washington, DC 20037. The closed teleconference will be conducted by phone only.

FOR FURTHER INFORMATION CONTACT: Members of the public who wish to obtain further information regarding this announcement may contact Mr. Edward Hanlon, Designated Federal Officer, by telephone: (202) 343-9946 or e-mail at hanlon.edward@epa.gov. The SAB Mailing address is: U.S. EPA Science Advisory Board (1400F), U.S. Environmental Protection Agency, 1200 Pennsylvania Ave., NW., Washington, DC 20460. General information about the SAB concerning the meeting and teleconference announced in this notice may be found on the SAB Web site at http://www.epa.gov/sab.

SUPPLEMENTARY INFORMATION:

Summary: Pursuant to section 10(d) of the Federal Advisory Committee Act (FACA), 5 U.S.C. app.2, and section (c)(6) of the Government in the Sunshine Act, 5 U.S.C. 552b(c)(6), EPA has determined that the meeting and teleconference will be closed to the public. The purpose of the meeting and teleconference is for the Committee to discuss recommendations for the SAB regarding the recipients of the Agency's 2010 Scientific and Technological Achievement Awards. These awards are established to honor and recognize EPA employees who have made outstanding contributions in the advancement of science and technology through their research and development activities, as exhibited in publication of their results in peer reviewed journals. I have determined that the SAB meeting and teleconference will be closed to the public because it is concerned with selecting employees deserving of awards. In making these recommendations, the Agency requires full and frank advice from the EPA Science Advisory Board. This advice will involve professional judgments on the relative merits of various employees and their respective work. Such personnel matters involve the discussion of information that is of a personal nature and the disclosure of which would be a clearly unwarranted invasion of personal privacy and, therefore, are protected from disclosure by section (c)(6) of the Government in the Sunshine Act, 5 U.S.C. 552b(c)(6). Minutes of the meeting and teleconference will be kept and certified by the Chair.

Dated: June 7, 2010.
Lisa P. Jackson,
Administrator.

[FR Doc. 2010-14206 Filed 6-11-10; 8:45 am]

BILLING CODE 6560-50-P